DEPARTMENT OF HEALTH AND HUMAN SERVICES

Notification of a Single Source Cooperative Agreement Award for the Gorgas Memorial Institute

AGENCY: Department of Health and Human Services, Office of the Assistant Secretary for Preparedness and Response

Authority: Sections 301, 307, 1701, and 2811 of the Public Health Service Act, 42 U.S.C. 241, 242l, 300u and 300hh-10.

ACTION: Notice.

SUMMARY: The Department of Health and Human Services (HHS), Assistant Secretary for Preparedness and Response (ASPR) intends to provide a Single Source Cooperative Agreement Award to the Gorgas Memorial Institute (GMI) in Panama. The Cooperative Agreement will support enhancement of global and regional health security through enhanced implementation of International Health Regulations (IHR) (2005) in Panama. ASPR, in close coordination with the HHS Centers for Disease Control and Prevention (CDC) and other U.S. Government (USG) stakeholders, will collaborate with the GMI to sustain and strengthen preparedness, detection, and communication capacities for pandemic influenza and other emerging and re-emerging infectious diseases in Panama and its area of influence in Central America and the Caribbean. Recognizing that the health security of the American people is intrinsically linked to the world's health security, and that international cooperation is critical to enhance global health security, this program is aligned with Article 44 of the IHR (2005), which directs State Parties to collaborate to detect, assess, and respond to events while developing, strengthening, and maintaining core public health surveillance and response capacities.

DATES: The period of performance is from September 30, 2014 to September 29, 2017.

Award Amount: Estimate $300,000-$350,000.

SUPPLEMENTARY INFORMATION: The Division of International Health Security in the Office of Policy and Planning is the program office for this award.

Single Source Justification: GMI is Panama's national public health laboratory and the only advanced biomedical research institute in Central America. In addition to serving as both a national and regional reference laboratory, it also serves as a focal point for infectious disease studies in Central America and the Caribbean. Justification of GMI as the sole partner to support this program is based upon three major elements: (1) GMI's unique, in-country capabilities and capacities; (2) GMI's network of partners in the region; and (3) GMI's past achievements and excellent performance during previous collaborations (detailed below). Thus, GMI is the only public health laboratory in the entire region with capacity to rapidly execute HHS's proposed program in Panama and neighboring countries.

GMI, a public health institution within Panama's Ministry of Health, provides evidence-based guidance for Panama's national public health policy and has a well-established commitment to national and regional biomedical research. Created in 1928 and named after General William Crawford Gorgas, a U.S. Army physician who led control efforts for yellow fever, malaria, and other diseases during the building of the Panama Canal, GMI was funded primarily by the USG from 1928 until 1991. Regionally, GMI has the most advanced diagnostic and research laboratory, with capabilities in virology, parasitology, genomics, entomology, tropical diseases, and food and water chemistry. It contributes greatly to the protection and improvement of Panamanian and Central American health by serving as a national public health reference laboratory to diagnose influenza, yellow fever, malaria, measles, tuberculosis, arbovirus febrile illness, viral encephalitis, dengue, Hantavirus cardiopulmonary syndrome, and other endemic viral and bacterial diseases. Most recently, GMI was established as a World Bank/Pan-American Health Organization reference laboratory for human immunodeficiency virus (HIV) for the entire Central American region.

ASPR's past partnership with GMI, beginning with a cooperative agreement in 2006, resulted in numerous health security accomplishments and has greatly strengthened U.S.-Panama relations. With support from ASPR, syndromic and laboratory surveillance for influenza have been fully integrated into Panama's national public health infrastructure. Panama established the first national influenza surveillance network with 18 sentinel sites throughout the country for monitoring of influenza-like illness and hospital-based severe acute respiratory illness. The collaboration also supported completion of the first national biosafety level 3 (BSL-3) laboratory, which was inaugurated by the President of Panama and the HHS Principal Deputy Assistant Secretary for Preparedness and Response in 2010. The GMI's BSL-3 laboratory serves as the country´s only facility for detection of equine encephalitis virus, multi-resistant tuberculosis, HIV, hantavirus, influenza, and other dangerous pathogens. The ASPR-GMI collaboration has also supported the implementation of new, safer biological decontamination procedures, with the concurrent development of an interconnected electronic laboratory platform designed at GMI with technical support from the CDC Central American Regional Office, to provide real time laboratory results to health authorities.

As a result of the collaboration between ASPR and GMI, over 5,000 public health and medical professionals from more than 10 countries in the region were trained between 2006 and 2013. Training topics included laboratory biosafety, pathogen biosecurity, rapid testing methods, qualitative detection of ricin toxin, and safe shipping of infectious material. Using advanced technologies, laboratory professionals in the region can accomplish viral subtyping and molecular characterization of different influenza viruses which contribute to global situational awareness for pandemic threats. In 2011, ASPR supported GMI to enhance their BSL-3 virology suite for detecting and diagnosing emerging influenza and other infectious disease threats, including biological threat agents and novel influenza viruses. These efforts were achieved in collaboration with CDC's Laboratory Response Network. As part of this effort, ASPR and GMI hosted the first-ever Latin-American Regional Planning Meeting of Experts aimed at establishing a regional bio-safety association for biological risk management with participants from 11 countries. Lastly, ASPR and GMI collaborated to advance IHR (2005) implementation and establishment of the IHR National Focal Point, known as the National Operations Center (Centro Nacional de Enlace [CNE]), in May 2013. CNE monitors all possible events that may require immediate intervention, response, or the need for international notification on a 24 hour/7 days a week basis.

Supporting IHR (2005) implementation and strengthening regional and global health security, including pandemic influenza preparedness efforts, to protect the health of the American population is a priority for the United States, as evidenced by the recent launch of the Global Health Security Agenda. After careful and thorough consideration, ASPR determined GMI is the only partner with proven capabilities to support the proposed program and meet HHS' needs of advancing IHR (2005) implementation and strengthening pandemic influenza and infectious disease preparedness in Panama. Collaboration efforts will also support infectious disease preparedness in neighboring countries, which facilitate early detection of diseases and potentially prevent regional and global spread. For the aforementioned reasons, GMI is uniquely qualified and the only appropriate partner to facilitate and support successful completion of the proposed project.

FOR FURTHER INFORMATION CONTACT: Please submit an inquiry via the ASPR-OPP Division of International Health Security—IHR Program Contact Form located at http://www.phe.gov/Preparedness/international/ihr/Pages/IHRInquiry.aspx.

Dated: July 18, 2014.
Nicole Lurie,
Assistant Secretary for Preparedness and Response.

[FR Doc. 2014-17456 Filed 7-23-14; 8:45 am]

BILLING CODE 4150-37-P;